FEDERAL ELECTION COMMISSION

[Notice 2013-03]

Price Index Adjustments for Contribution and Expenditure Limitations and Lobbyist Bundling Disclosure Threshold

AGENCY: Federal Election Commission.

ACTION: Notice of adjustments to contribution and expenditure limitations and lobbyist bundling disclosure threshold.

SUMMARY: As mandated by provisions of the Federal Election Campaign Act of 1971, as amended (“FECA” or “the Act”), the Federal Election Commission (“FEC” or “the Commission”) is adjusting certain contribution and expenditure limitations and the lobbyist bundling disclosure threshold set forth in the Act, to index the amounts for inflation. Additional details appear in the supplemental information that follows.

DATES: Effective Date: The effective date for the limitation at 2 U.S.C. 441a(a)(1)(A) is November 7, 2012. The effective date for the limitations at 2 U.S.C. 434(i)(3)(A), 441a(a)(1)(B), 441a(a)(3), 441a(d) and 441a(h) is January 1, 2013.

FOR FURTHER INFORMATION CONTACT: Ms. Elizabeth S. Kurland, Information Division, 999 E Street NW., Washington, DC 20463; (202) 694-1100 or (800) 424-9530.

SUPPLEMENTARY INFORMATION: Under the Federal Election Campaign Act of 1971, 2 U.S.C. 431 et seq., coordinated party expenditure limits (2 U.S.C. 441a(d)(2) and (3)(A), (B)), certain contribution limits (2 U.S.C. 441a(a)(1)(A) and (B), (a)(3) and (h)), and the disclosure threshold for contributions bundled by lobbyists (2 U.S.C. 434(i)(3)(A)) are adjusted periodically to reflect changes in the consumer price index. See 2 U.S.C. 434(i)(3) and 441a(c)(1), and 11 CFR 109.32 and 110.17(a), (f). The Commission is publishing this notice to announce the adjusted limits and disclosure threshold.

Coordinated Party Expenditure Limits for 2013

Under 2 U.S.C. 441a(c), the Commission must adjust the expenditure limitations established by 2 U.S.C. 441a(d) (the limits on expenditures by national party committees, state party committees, or their subordinate committees in connection with the general election campaign of candidates for Federal office) annually to account for inflation. This expenditure limitation is increased by the percent difference between the price index, as certified to the Commission by the Secretary of Labor, for the 12 months preceding the beginning of the calendar year and the price index for the base period (calendar year 1974).

1. Expenditure Limitation for House of Representatives in States with More Than One Congressional District

Both the national and state party committees have an expenditure limitation for each general election held to fill a seat in the House of Representatives in states with more than one congressional district. This limitation also applies to those states and territories that elect individuals to the office of Delegate or Resident Commissioner.¹ The formula used to calculate the expenditure limitation in such states multiplies the base figure of $10,000 by the difference in the price index (4.65647), rounding to the nearest $100. See 2 U.S.C. 441a(c)(1)(B) and 441a(d)(3)(B), and 11 CFR 109.32(b) and 110.17. Based upon this formula, the expenditure limitation for 2013 general elections for House candidates in these states is $46,600.

¹ Currently, these states are the District of Columbia, the Commonwealth of Puerto Rico, and the territories of American Samoa, Guam, the United States Virgin Islands and the Northern Mariana Islands. See http://www.house.gov/representatives/.

2. Expenditure Limitation for Senate and for House of Representatives in States With Only One Congressional District

Both the national and state party committees have an expenditure limitation for a general election held to fill a seat in the Senate or in the House of Representatives in states with only one congressional district. The formula used to calculate this expenditure limitation considers not only the price index but also the voting age population (“VAP”) of the state. The VAP of each state is published annually in the Federal Register by the Department of Commerce. 11 CFR 110.18. The general election expenditure limitation is the greater of: The base figure ($20,000) multiplied by the difference in the price index, 4.65647 (which totals $93,100); or $0.02 multiplied by the VAP of the state, multiplied by 4.65647. Amounts are rounded to the nearest $100. See 2 U.S.C. 441a(c)(1)(B) and 441a(d)(3)(A), and 11 CFR 109.32(b) and 110.17. The chart below provides the state-by-state breakdown of the 2013 general election expenditure limitation for Senate elections. The expenditure limitation for 2013 House elections in states with only one congressional district ² is $93,100.

² Currently, these states are: Alaska, Delaware, Montana, North Dakota, South Dakota, Vermont and Wyoming. See http://www.house.gov/representatives/.

Senate General Election Expenditure Limits—2013 Elections
State | Voting age population (VAP) | VAP × .02 × the price index (4.65647) | Senate expenditure limit (the greater of the amount in column 3 or $93,100)
Alabama | 3,697,617 | $344,400 | $344,400
Alaska | 544,349 | 50,700 | 93,100
Arizona | 4,932,361 | 459,300 | 459,300
Arkansas | 2,238,250 | 208,400 | 208,400
California | 28,801,211 | 2,682,200 | 2,682,200
Colorado | 3,956,224 | 368,400 | 368,400
Connecticut | 2,796,789 | 260,500 | 260,500
Delaware | 712,042 | 66,300 | 93,100
Florida | 15,315,088 | 1,426,300 | 1,426,300
Georgia | 7,429,820 | 691,900 | 691,900
Hawaii | 1,089,302 | 101,400 | 101,400
Idaho | 1,169,075 | 108,900 | 108,900
Illinois | 9,811,190 | 913,700 | 913,700
Indiana | 4,945,857 | 460,600 | 460,600
Iowa | 2,351,233 | 219,000 | 219,000
Kansas | 2,161,601 | 201,300 | 201,300
Kentucky | 3,362,177 | 313,100 | 313,100
Louisiana | 3,484,090 | 324,500 | 324,500
Maine | 1,063,274 | 99,000 | 99,000
Maryland | 4,540,763 | 422,900 | 422,900
Massachusetts | 5,244,729 | 488,400 | 488,400
Michigan | 7,616,490 | 709,300 | 709,300
Minnesota | 4,102,991 | 382,100 | 382,100
Mississippi | 2,239,593 | 208,600 | 208,600
Missouri | 4,618,513 | 430,100 | 430,100
Montana | 783,161 | 72,900 | 93,100
Nebraska | 1,392,120 | 129,600 | 129,600
Nevada | 2,095,348 | 195,100 | 195,100
New Hampshire | 1,045,878 | 97,400 | 97,400
New Jersey | 6,838,206 | 636,800 | 636,800
New Mexico | 1,571,096 | 146,300 | 146,300
New York | 15,307,107 | 1,425,500 | 1,425,500
North Carolina | 7,465,545 | 695,300 | 695,300
North Dakota | 545,020 | 50,800 | 93,100
Ohio | 8,880,551 | 827,000 | 827,000
Oklahoma | 2,877,457 | 268,000 | 268,000
Oregon | 3,038,729 | 283,000 | 283,000
Pennsylvania | 10,024,150 | 933,500 | 933,500
Rhode Island | 833,818 | 77,700 | 93,100
South Carolina | 3,643,633 | 339,300 | 339,300
South Dakota | 629,185 | 58,600 | 93,100
Tennessee | 4,962,227 | 462,100 | 462,100
Texas | 19,073,564 | 1,776,300 | 1,776,300
Utah | 1,967,315 | 183,200 | 183,200
Vermont | 502,060 | 46,800 | 93,100
Virginia | 6,329,130 | 589,400 | 589,400
Washington | 5,312,045 | 494,700 | 494,700
West Virginia | 1,471,372 | 137,000 | 137,000
Wisconsin | 4,408,841 | 410,600 | 410,600
Wyoming | 440,922 | 41,100 | 93,100

Limitations on Contributions by Individuals, Non-Multicandidate Committees and Certain Political Party Committees Giving to U.S. Senate Candidates for the 2013-2014 Election Cycle

The Act requires inflation indexing to: (1) The limitations on contributions made by persons under 2 U.S.C. 441a(a)(1)(A) (contributions to candidates) and 441a(a)(1)(B) (contributions to national party committees); (2) the biennial aggregate contribution limitations applicable to individuals under 2 U.S.C. 441a(a)(3); and (3) the limitation on contributions made to U.S. Senate candidates by certain political party committees at 2 U.S.C. 441a(h). See 2 U.S.C. 441a(c). These contribution limitations are increased by multiplying the respective statutory contribution amount by 1.29668, the percent difference between the price index, as certified to the Commission by the Secretary of Labor, for the 12 months preceding the beginning of the calendar year and the price index for the base period (calendar year 2001). The resulting amount is rounded to the nearest multiple of $100. See 2 U.S.C. 441a(c) and 11 CFR 110.17(b). Contribution limitations shall be adjusted accordingly:

Statutory provision | Statutory amount | 2013-2014 Limit
2 U.S.C. 441a(a)(1)(A) | $2,000 | $2,600.
2 U.S.C. 441a(a)(1)(B) | $25,000 | $32,400.
2 U.S.C. 441a(a)(3)(A) | $37,500 | $48,600.
2 U.S.C. 441a(a)(3)(B) | $57,500 (of which no more than $37,500 may be attributable to contributions to political committees that are not political committees of national political parties) | $74,600 (of which no more than $48,600 may be attributable to contributions to political committees that are not political committees of national political parties).
2 U.S.C. 441a(h) | $35,000 | $45,400.

The increased limitation at 2 U.S.C. 441a(a)(1)(A) is to be in effect for the two-year period beginning on the first day following the date of the general election in the preceding year and ending on the date of the next regularly scheduled election. Thus the $2,600 figure above is in effect from November 7, 2012, to November 4, 2014. The limitations under 2 U.S.C. 441a(a)(1)(B), 441a(a)(3)(A) and (B), and 441a(h), shall be in effect beginning January 1st of the odd-numbered year and ending on December 31st of the next even-numbered year. Thus the new contribution limitations under 2 U.S.C. 441a(a)(1)(B), 441a(a)(3)(A) and (B), and 441a(h) are in effect from January 1, 2013, to December 31, 2014. See 11 CFR 110.17(b)(1).

Lobbyist Bundling Disclosure Threshold for 2013

The Act requires certain political committees to disclose contributions bundled by lobbyists/registrants and lobbyist/registrant political action committees once the contributions exceed a specified threshold amount. The Commission must adjust this threshold amount annually to account for inflation. The disclosure threshold is increased by multiplying the $15,000 statutory disclosure threshold by 1.13887, the difference between the price index, as certified to the Commission by the Secretary of Labor, for the 12 months preceding the beginning of the calendar year and the price index for the base period (calendar year 2006). The resulting amount is rounded to the nearest multiple of $100. See 2 U.S.C. 434(i)(3)(A) and (B), 441a(c)(1)(B) and 11 CFR 104.22(g). Based upon this formula ($15,000 × 1.13887), the lobbyist bundling disclosure threshold for calendar year 2013 is $17,100.

On behalf of the Commission.
Dated: January 31, 2013.
Ellen L. Weintraub,
Chair, Federal Election Commission.

[FR Doc. 2013-02520 Filed 2-5-13; 8:45 am]

BILLING CODE 6715-01-P